NATIONAL AERONAUTICS AND SPACE ADMINISTRATION

[Notice (01-012)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Linda Blackburn, Patent Counsel, NASA Langley Research Center, Mail Code 212, Hampton, VA, 23681-2199; Tel. (757) 864-9260; Fax (757) 864-9190.

NASA Case No. LAR-15449-2: Method to Prepare Processable Polyimides with Reactive Endgroups Using 1, 3-Bix (3-Aminophenoxyl) Benzene (Continuing App of -1);

NASA Case No. LAR-15470-1-CU: Dry Process for Manufacturing Hybridized Boron Fiber-Carbon Fiber Thermoplastic Composite Materials;

NASA Case No. LAR-15543-2: Phenylethynyl Containing Reactive Additives (Divisional of LAR-15543-1);

NASA Case No. LAR-15642-1: High Pressure, High Frequency Fluid Valve;

NASA Case No. LAR-15712-1-CU: Catalytic Oxidation Sensor for Hydrocarbons and Volatile Organic Compounds;

NASA Case No. LAR-15817-1: Method and Apparatus for Encouraging Physiological Self-Regulation Through Modulation of an Operator's Control Input to a Video Game;

NASA Case No. LAR-15851-1-CU: Process for Coating Substrates with Catalyst Materials;

NASA Case No. LAR-15852-1: Dry Process for Manufacturing Hybridized Boron Fiber/Carbon Fiber Thermoplastic Composite Materials from a Solution Coated Precursor;

NASA Case No. LAR-15926-1: Reference Sample Technique to Measure Material Nonlinearity;

NASA Case No. LAR-15954-1: Single Laser Sweep Full S-Parameter Characterization of Fiber Bragg Gratings;

NASA Case No. LAR-15960-1: Polymer-Polymer Bilayer Actuator;

NASA Case No. LAR-15962-1-CU: Poly (Aryl Ether Ketones) Bearing Alkylated Side Chains;

NASA Case No. LAR-16005-1: High Precision Solid State Wavelength Monitor;

NASA Case No. LAR-16038-1: Electrostrictive Graft Elastomers;

NASA Case No. LAR-16039-1: Non-Uniform Thickness Electroactive Device;

NASA Case No. LAR-16219-1: Membrane Position Control;

NASA Case No. LAR-16220-1: Membrane Tension Control.

Dated: January 11, 2001.
Edward A. Frankle,
General Counsel.

[FR Doc. 01-1772 Filed 1-19-01; 8:45 am]

BILLING CODE 7510-01-U